DEPARTMENT OF ENERGY

Federal Energy Regulatory Commission

[Docket No. RP05-140-001]

Columbia Gas Transmission Corporation; Notice of Revised Revenue Credit Report

January 12, 2005.

Take notice that on January 10, 2005, Columbia Gas Transmission Corporation (Columbia) tendered for filing a revised annual penalty crediting report (report) pursuant to section 19.6 of the General Terms and Conditions of its FERC Gas Tariff, Second Revised Volume No. 1, to replace the filing that was made on December 30, 2004.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on January 21, 2005.

Magalie R. Salas,
Secretary.

[FR Doc. E5-239 Filed 1-21-05; 8:45 am]

BILLING CODE 6717-01-P